DEPARTMENT OF THE INTERIOR

National Park Service

National Register of Historic Places; Notification of Pending Nominations

Nominations for the following properties being considered for listing in the National Register were received by the National Park Service before March 20, 2004.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by April 15, 2004.

Carol D. Shull,
Keeper of the National Register of Historic Places.

COLORADO

Otero County

Santa Fe Railway Manzanola Depot, (Railroads in Colorado, 1858-1948 MPS), 212 N. Grand Ave., Manzanola, 04000363.

FLORIDA

Pinellas County

Downtown St. Petersburg Historic District, Bounded by 5th Ave. N, Beach Dr. NE, Central Ave., 9th St. N, St. Petersburg, 04000364.

KANSAS

Douglas County

Black Jack Battlefield, US 56 and Cty Rd. 2000, 3.0 mi. E of Baldwin City, Baldwin, 04000365.

Riley County

Lyda—Jean Apartments, 501 Houston, Manhattan, 04000368.

Shawnee County

Albaugh, Morton, House, 1331 SW Harrison St., Topeka, 04000366.

Morgan House, 1335 SW Harrison St., Topeka, 04000367.

MAINE

Cumberland County

Crystal Spring Farm, 277 Pleasant Hill Rd., Brunswick, 04000369.

East Raymond Union Chapel, 394 Webbs Mills Rd., East Raymond, 04000370.

Kennebec County

Benton Grange #458, Jct. of River Rd. and School Dr., Benton, 04000373.

Somerset County

Anson Grange #88, 10 Elm St., North Anson, 04000371.

York County

Wallingford Hall, 21 York St., Kennebunk, 04000372.

MONTANA

Cascade County

Great Falls Central Business Historic District, Second Ave. N, First Ave. N, Central Ave., First Ave. S., Great Falls, 04000374.

NEW MEXICO

Bernalillo County

De Anza Motor Lodge, (Route 66 through New Mexico MPS), 4301 Central Ave. NE, Albuquerque, 04000375.

NEW YORK

Dutchess County

CLEARWATER (Sloop), Main St., on Hudson R, Poughkeepsie, 04000376.

RHODE ISLAND

Kent County

Royal Mill Complex, 125 Providence St., West Warwick, 04000377.

Providence County

Greystone Mill Historic District, Greystone Ave., North Providence, 04000378.

TEXAS

Anderson County

Michaux Park Historic District, (Palestine, Texas MPS), Roughly bounded by S. Michaux St., Jolly St., Crokett Rd., Rogers St., and E Park Ave., Palestine, 04000380.

Smith County

Brick Streets Neighborhood Historic District, (Tyler, Texas MPS), Roughly bounded by South Broadway, W. Dobbs St., S. Kennedy Ave., S. Vine Ave., Interior Property Lines, S. College Ave., Tyler, 04000379.

VIRGINIA

Isle Of Wight County

Parker, Col. Josiah, Family Cemetery, Approx. 50 yds from jct. of Old Macklesfield Rd. and Macklesfield Ct., Smithfield, 04000381.

A request for removal has been made for the following resources:

MAINE

Lincoln County

Hesper and Luther Little, Wiscasset waterfront off Water St., Wiscassett, 90000589.

Washington County

First Congregational Church, Calais Ave., Calais, 78000205.

A request for a MOVE has been made for the following resource:

CALIFORNIA

San Diego County

Naval Training Station, Barnett St. and Rosecrans Blvd., San Diego 00000426.

[FR Doc. 04-7138 Filed 3-30-04; 8:45 am]

BILLING CODE 4312-51-P